ENVIRONMENTAL PROTECTION AGENCY

[EPA-HQ-OPP-2005-0061; FRL-8355-1]

Azinphos-methyl: Product Cancellation Order and Amendments to Terminate Uses; Correction

AGENCY: Environmental Protection Agency (EPA).

ACTION: Notice; correction.

SUMMARY: EPA issued a notice in the Federal Register of Wednesday, February 20, 2008, concerning the cancellation of products and amendments to terminate uses of products containing azinphos-methyl. This document is being issued to correct typographical errors.

FOR FURTHER INFORMATION CONTACT: Tom Myers, Special Review and Reregistration Division (7508P), Office of Pesticide Programs, Environmental Protection Agency, 1200 Pennsylvania Ave., NW., Washington, DC 20460-0001; telephone number: (703) 308-8589; e-mail address: myers.tom@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2005-0061. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Does this Correction Do?

FR Doc. E8-3112 published in the Federal Register of Wednesday, February 20, 2008 (73 FR 9328) (FRL-8349-8) is corrected as follows:

1. On page 9328, under SUMMARY: the third sentence is corrected to read: Subject to the terms and conditions described in Unit II below and except as provided in the existing stocks provisions of the cancellation order, the order terminates distribution and sale of AZM products labeled for use on Brussels sprouts and nursery stock effective as of February 20, 2008; and prohibits use of such products on Brussels sprouts and nursery stock effective September 30, 2008; terminates AZM use on walnuts, almonds, and pistachios effective October 30, 2009; and cancels all AZM products effective September 30, 2012.

2. On page 9328, the DATES Unit is corrected to read: DATES: This order is effective February 20, 2008.

3. On page 9329, under Unit II., Table 1., and in the fourth sentence, in the paragraph that follows Table 1., the EPA Registration number for the last entry which now reads: “WA030035” is corrected to read: “WA030025.”

4. On page 9330, under Unit IV.2.a.ii., the EPA Registration number listed as WA030035 is corrected to read: WA030025.

5. On page 9330, the first sentence under Unit IV.2.b.i., is corrected to read: Use of products on Brussels sprouts and nursery stock is prohibited as of September 30, 2008.

List of Subjects

Environmental protection, Pesticides and pests.

Dated: March 12, 2008.
Peter Caulkins,
Acting Director, Special Review and Reregistration Division, Office of Pesticide Programs.

[FR Doc. E8-6186 Filed 3-25-08; 8:45 am]

BILLING CODE 6560-50-S